NATIONAL SCIENCE FOUNDATION

Proposal Review Panel for Materials Research; Notice of Meeting

In accordance with the Federal Advisory Committee Act (Pub., L. 92-463 as amended), the National Science Foundation announces the following meeting:

Name: Site visit review of the Cornell High Energy Synchrotron Source (CHESS) at Cornell University by the Division of Materials Research (DMR) #1203.

Dates and Times:

July 9, 2014; 8:00 a.m.-8:00 p.m.

July 10, 2014; 8:00 a.m.-4:00 p.m.

Place: Cornell University, Ithaca, NY.

Type of Meeting: Part open.

Contact Person: Dr. Thomas Rieker, Program Director, Materials Research Science and Engineering Centers Program, Division of Materials Research, Room 1065, National Science Foundation, 4201 Wilson Boulevard, Arlington, VA 22230, Telephone (703) 292-4914.

Purpose of Meeting: To provide advice and recommendations concerning operations and management of the CHESS facility at Cornell.

Agenda:

Wednesday, July 9, 2014

8:00 a.m.-9:45 a.m. Closed—Executive session

9:45 a.m.-4:45 p.m. Open—Presentations

4:45 p.m.-6:00 p.m. Closed—Executive session

Thursday, July 10, 2014

8:30 a.m.-4:00 p.m. Closed—Executive session, Draft and Review Report

Reason for Closing: The work being reviewed may include information of a proprietary or confidential nature, including technical information; financial data, such as salaries and personal information concerning individuals associated with the facility. These matters are exempt under 5 U.S.C. 552 b(c), (4) and (6) of the Government in the Sunshine Act.

Date: May 15, 2014.
Suzanne Plimpton,
Acting Committee Management Officer.

[FR Doc. 2014-11619 Filed 5-19-14; 8:45 am]

BILLING CODE 7555-01-P